DEPARTMENT OF HOMELAND SECURITY

Coast Guard

[Docket No. USCG-2025-0101]

Proposal To Relocate the COLREGS Demarcation Line, Atlantic Coast, New York Harbor

AGENCY: Coast Guard, DHS.

ACTION: Request for information.

SUMMARY: The Coast Guard seeks input from the public on a proposed change to the demarcation line in the New York Harbor. We request public input to help in assessing the current state of navigation safety and regulation in the New York Harbor area and associated waterways which make up the approaches. This information will support our understanding of the diverse array of waterways users and who this change may affect. Coast Guard requests information on whether we should make a change and how an earlier or later change in the demarcation line impacts vessel operations and transit.

DATES: Comments must be received by the Coast Guard on or before May 19, 2026.

ADDRESSES: You may submit comments identified by docket number USCG-2025-0101 at https://www.regulations.gov. See the “Public Participation and Request for Comments” portion of the SUPPLEMENTARY INFORMATION section for further instructions on submitting comments.

FOR FURTHER INFORMATION CONTACT: For information about this document call or email Lieutenant Commander John Nolan, Office of Navigation Systems (CG-NAV), Coast Guard; telephone 202-372-1566, email cgnav@uscg.mil.

SUPPLEMENTARY INFORMATION:

I. Public Participation and Comments

Coast Guard encourages you to submit comments or related material on the petitioner's Proposal to Relocate the International Regulations for Preventing Collisions at Sea (COLREGS) Demarcation Line, Atlantic Coast, New York Harbor. The Coast Guard views public participation as essential to understanding the current state of navigation within New York Harbor and the approaches, along with the observations, concern and opinions of those operating on these waterways. If you submit a comment, please include the docket number for this notice, indicate the specific section or question within this document to which each comment applies, and provide a reason for each suggestion or recommendation.

Submitting comments. We encourage you to submit comments at http://www.regulations.gov. To do so, go to https://www.regulations.gov, type USCG-2025-0101 in the search box and click “Search.” Next, look for this document in the Search Results column, and click on it. Then click on the Comment option. If your material cannot be submitted using http://www.regulations.gov, contact the person in the FOR FURTHER INFORMATION CONTACT section of this document for alternate instructions.

Viewing material in docket. To view documents mentioned in this notice as being available in the docket, find the docket as described in the previous paragraph, and then select “Supporting & Related Material” in the Document Type column. Public comments will also be placed in our online docket and can be viewed by following instructions on the https://www.regulations.gov Frequently Asked Questions web page.

Personal information. We accept anonymous comments. Comments we post will include any personal information you have provided. For more information about privacy and submissions in response to this document, see DHS's eRulemaking System of Records notice (85 FR 14226, March 11, 2020).

II. Background

A waterways operator submitted a petition for rulemaking requesting the Coast Guard relocate the demarcation line in the New York Harbor from its current location to a new line starting from Highland Light (LLNR35025) to the Jones Inlet Light (LLNR 30890), intersecting the red and white (RW) “A” Morse Alpha Bouy. This proposal would amend 33 CFR 80.165. The petitioner contends that this adjustment would better reflect contemporary navigational practices and enhance maritime safety by clarifying the application of navigational rules within key approach channels. The petitioner's request is available in the docket, including a chartlet the petitioner provided.

III. Request for Information

The Coast Guard requests information on the current state of navigation within New York Harbor and the approaches, along with the observations, concerns, and opinions of those operating on these waterways. Accordingly, Coast Guard requests relevant comments and information from the public and particularly from commercial vessel operators to include deep draft, towing industry, and fishing vessel fleets that may be affected by or have information on this topic.

Coast Guard requests your input on whether we should consider making the change to the demarcation line from “a line from East Rockaway Inlet Breakwater Light to Sandy Hook Light” to instead “a line from Highlands Light (LLBR 35025) to the Jones Inlet Light (LLNR 30890), which intersects the RW `A' Morse Alpha Buoy”. Coast Guard also requests information on how an earlier or later change in the demarcation line (switching from COLREGS to Inland Navigation Rules) impacts vessel operations and transits.

Loan T. O'Brien,
Captain, U.S. Coast Guard, Chief, Office of Navigation Systems.

[FR Doc. 2026-03209 Filed 2-17-26; 8:45 am]

BILLING CODE 9110-04-P